DEPARTMENT OF COMMERCE

International Trade Administration

[A-570-863]

Honey from the People's Republic of China: Extension of Time Limit for Preliminary Results of Second Antidumping Duty Administrative Review

AGENCY: Import Administration, International Trade Administration, Department of Commerce.

ACTION: Notice of extension of time limit for preliminary results of antidumping duty administrative review.

SUMMARY: The Department of Commerce (the Department) is extending the time limit for the preliminary results of the administrative review of the antidumping duty order on honey from the People's Republic of China (PRC) until no later than December 15, 2004. The period of review is December 1, 2002, through November 30, 2003.

EFFECTIVE DATE: October 20, 2004.

FOR FURTHER INFORMATION CONTACT: Anya Naschak at (202) 482-6375 or Nina Boughton at (202) 482-8173; Antidumping and Countervailing Duty Operations Office 9, Import Administration, International Trade Administration, U.S. Department of Commerce, 14th Street and Constitution Avenue, NW., Washington, DC 20230.

SUPPLEMENTARY INFORMATION:

Statutory Time Limits

Section 751(a)(3)(A) of the Tariff Act of 1930, as amended (the Act), and section 351.213(h)(1) of the Department's regulations require the Department to issue the preliminary results of an administrative review within 245 days after the last day of the anniversary month of the order or suspension agreement for which the administrative review was requested, and final results of review within 120 days after the date on which the notice of the preliminary results was published in the Federal Register. However, if the Department determines that it is not practicable to complete the review within this time period, section 751(a)(3)(A) of the Act and section 351.213(h)(2) of our regulations allow the Department to extend the 245-day period to 365 days and the 120-day period to 180 days.

Background

On December 10, 2001, the Department published in the Federal Register an antidumping duty order covering honey from the PRC. See Notice of Amended Final Determination of Sales at Less Than Fair Value and Antidumping Duty Order; Honey from the People's Republic of China, 66 FR 63670 (December 10, 2001). On December 2, 2003, the Department published a Notice of Opportunity to Request an Administrative Review of Antidumping or Countervailing Duty Order, Finding, or Suspended Investigation, 68 FR 67401. On December 29, 2003, Anhui Honghui Foodstuff (Group) Co., Ltd. (“Anhui Honghui”); Eurasia Bee's Products Co., Ltd. (“Eurasia”); and Jiangsu Kanghong Natural Healthfoods Co., Ltd. (“Jiangsu Kanghong”) requested that the Department conduct an administrative review of each respective company's entries during the POR. On December 31, 2003, the American Honey Producers Association and the Sioux Honey Association (collectively, the “petitioners”), requested, in accordance with section 351.213(b) of the Department's regulations, an administrative review of entries of subject merchandise made during the POR by 20 Chinese producers/exporters, which included Anhui Honghui, Eurasia, and Jiangsu Kanghong, as well as the following companies: Anhui Native Produce Import & Export Corp. (“Anhui Native”); Cheng Du Wai Yuan Bee Products Co., Ltd. (“Cheng Du”); Foodworld International Club, Ltd. (“Foodworld”); Henan Native Produce and Animal By-Products Import & Export Company (“Henan”); High Hope International Group Jiangsu Foodstuffs Import & Export Corp. (“High Hope”); Inner Mongolia Autonomous Region Native Produce and Animal By-Products Import & Export Corp. (“Inner Mongolia”); Inner Mongolia Youth Trade Development Co., Ltd. (“Inner Mongolia Youth”); Jinan Products Industry Co., Ltd. (“Jinan”); Jinfu Trading Co., Ltd. (“Jinfu”); Kunshan Foreign Trade Company (“Kunshan”); Native Produce and Animal Import & Export Co. (“Native Produce”); Shanghai Eswell Enterprise Co., Ltd. (“Shanghai Eswell”); Shanghai Shinomiel International Trade Corporation (“Shanghai Shinomiel”); Shanghai Xiuwei International Trading Co., Ltd. (“Shanghai Xiuwei”); Sichuan-Dujiangyan Dubao Bee Industrial Co., Ltd. (“Dubao”); Wuhan Bee Healthy Company, Ltd. (“Wuhan Bee”); and Zhejiang Native Produce and Animal By-Products Import & Export Group Corp. (“Zhejiang”). On January 14, 2004, the petitioners filed a letter withdrawing their request for review of Henan, High Hope, Jinan, and Native Produce. On January 22, 2003, the Department initiated the review for the remaining 16 companies. See Initiation of Antidumping and Countervailing Duty Administrative Reviews and Requests for Revocation in Part, 68 FR 3009 (January 22, 2004).

On March 10, 2004, the Department rescinded the review for Foodworld and Anhui Native. See Honey from the People's Republic of China: Notice of Partial Rescission of Antidumping Duty Administrative Review, 69 FR 11383 (March 10, 2004).

On April 27, 2004, the Department rescinded the review for Anhui Honghui, Cheng Du, Eurasia, Inner Mongolia Youth, and Jiangsu Kanghong. See Honey from the People's Republic of China: Notice of Partial Rescission of Antidumping Duty Administrative Review, 69 FR 22760 (April 27, 2004).

On June 1, 2004, the Department published an extension of the time limits to complete these preliminary results. See Honey from the People's Republic of China: Extension of Time Limit of Preliminary Results of Second Antidumping Duty Administrative Review, 69 FR 30879 (June 1, 2004). The deadline for completion of the Preliminary Results was extended until November 19, 2004.

Extension of Time Limits for Preliminary Results

Pursuant to section 751(a)(3)(A) of the Act and section 351.213(h) of the Department's regulations, we determine that it is not practicable to complete this administrative review within the current time limit. The Department requires additional time to analyze all questionnaire responses and issue appropriate supplemental questionnaires. In particular, the Department is considering the appropriate surrogate value for raw honey. Therefore, in accordance with section 751(a)(3)(A) of the Act and section 351.213(h)(2) of the Department's regulations, the Department is further extending the time limit for the completion of these preliminary results by an additional 26 days. The preliminary results will now be due no later than December 15, 2004.

The final results will, in turn, be due 120 days after the date of issuance of the preliminary results, unless extended.

Dated: October 14, 2004.
Jeffrey A. May,
Deputy Assistant Secretary for Import Administration.

[FR Doc. E4-2728 Filed 10-19-04; 8:45 am]

BILLING CODE 3510-DS-S